NATIONAL AERONAUTICS AND SPACE ADMINISTRATION

[Notice 02-132]

Government-Owned Inventions, Available for Licensing

AGENCY: Notice of availability of inventions for licensing.

SUMMARY: The inventions listed below are assigned to the National Aeronautics and Space Administration, have been filed in the United States Patent and Trademark Office, and are available for licensing.

DATES: November 12, 2002.

FOR FURTHER INFORMATION CONTACT: Rob Padilla, Patent Counsel, Ames Research Center, Mail Code 202A-4, Moffett Field, CA 94035-1000; telephone (650) 604-5104, fax (650) 604-2767.

NASA Case No. ARC-14662-1: Extensible Database Framework For Management Of Unstructured And Semi-Structured Documents;

NASA Case No. ARC-14940-1: Bucky Paper As A Support Membrane In Retinal Cell Transplantation.

Dated: November 4, 2002.
Robert M. Stephens,
Deputy General Counsel.

[FR Doc. 02-28560 Filed 11-8-02; 8:45 am]

BILLING CODE 7510-01-P